DEPARTMENT OF ENERGY

Federal Energy Regulatory Commission

Notice of Staff Attendance at the Southwest Power Pool Regional Entity Trustee, Regional State Committee, Members' Committee and Board of Directors' Meetings

The Federal Energy Regulatory Commission (Commission) hereby gives notice that members of its staff may attend the meetings of the Southwest Power Pool, Inc. Regional State Committee (RSC), Regional Entity Trustee (RET), Members' Committee and Board of Directors as noted below. Their attendance is part of the Commission's ongoing outreach efforts.

The SPP RSC meeting will be held in DFW Hyatt Regency, 2334 North International Parkway, DFW Airport, Texas 75261. The phone number is (972) 453-1234. The SPP RET meeting and the SPP Members/Board of Directors meetings will be held at the Doubletree Warren Place, 6110 S. Yale Avenue Tulsa, Oklahoma 74136-1904. The phone number is (918) 495-1000. All meetings are Central Time.

SPP RSC

April 17, 2017 (1:00 p.m.-5:00 p.m.)

SPP RET

April 24, 2017 (8:00 a.m.-5:00 p.m.)

SPP Members/Board of Directors

April 25, 2017 (8:00 a.m.-3:00 p.m.)

The discussions may address matters at issue in the following proceedings:

Docket No. ER15-2028, Southwest Power Pool, Inc.

Docket No. ER15-2115, Southwest Power Pool, Inc.

Docket No. ER15-2324, Southwest Power Pool, Inc.

Docket No. EL16-91, Southwest Power Pool, Inc.

Docket No. EL16-108, Tilton Energy v. Midcontinent Independent System Operator, Inc.

Docket No. EL16-110, Southwest Power Pool, Inc.

Docket No. ER16-204, Southwest Power Pool, Inc.

Docket No. ER16-209, Southwest Power Pool, Inc.

Docket No. ER16-791, Southwest Power Pool, Inc.

Docket No. ER16-829, Southwest Power Pool, Inc.

Docket No. ER16-1341, Southwest Power Pool, Inc.

Docket No. ER16-1546, Southwest Power Pool, Inc.

Docket No. ER16-2522, Southwest Power Pool, Inc.

Docket No. ER16-2523, Southwest Power Pool, Inc.

Docket No. EL17-11, Alabama Power Co.

Docket No. EL17-21, Kansas Electric Co.

Docket No. EL17-29, American Municipal Power

Docket No. ER17-253, Southwest Power Pool, Inc.

Docket No. ER17-264, Southwest Power Pool, Inc.

Docket No. ER17-358, Southwest Power Pool, Inc.

Docket No. ER17-426, Southwest Power Pool, Inc.

Docket No. ER17-428, Southwest Power Pool, Inc.

Docket No. ER17-772, Southwest Power Pool, Inc.

Docket No. ER17-889, Southwest Power Pool, Inc.

Docket No. ER17-969, Southwest Power Pool, Inc.

Docket No. ER17-973, Southwest Power Pool, Inc.

Docket No. ER17-976, Southwest Power Pool, Inc.

Docket No. ER17-1024, Southwest Power Pool, Inc.

Docket No. ER17-1092, Southwest Power Pool, Inc.

Docket No. ER17-1098, Southwest Power Pool, Inc.

Docket No. ER17-1107, Southwest Power Pool, Inc.

Docket No. ER17-1110, Southwest Power Pool, Inc.

Docket No. ER17-1140, Southwest Power Pool, Inc.

Docket No. ER17-1309, Southwest Power Pool, Inc.

Docket No. ER17-1319, Southwest Power Pool, Inc.

Docket No. ER17-1371, Southwest Power Pool, Inc.

These meetings are open to the public.

For more information, contact Patrick Clarey, Office of Energy Market Regulation, Federal Energy Regulatory Commission at (317) 249-5937 or patrick.clarey@ferc.gov.

Dated: April 11, 2017.
Kimberly D. Bose,
Secretary.

[FR Doc. 2017-07688 Filed 4-14-17; 8:45 am]

BILLING CODE 6717-01-P